SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: September 1-30, 2019.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(f) for the time period specified above:

Approvals by Rule—Issued Under 18 CFR 806.22(f)

1. Chesapeake Appalachia, L.L.C.; Pad ID: Trowbridge; ABR-201909001; Windham Township, Wyoming County, Pa.; Consumptive Use of Up to 7.5000 mgd; Approval Date: September 3, 2019.

2. Seneca Resources Company, LLC.; Pad ID: D09-K; ABR-201909002; Shippen Township, Cameron County; Jones Township, Elk County; and Sergeant Township, McKean County, Pa.; Consumptive Use of Up to 4.0000 mgd; Approval Date: September 3, 2019.

3. Chesapeake Appalachia, L.L.C.; Pad ID: Bonnie; ABR-20090904.R2; Albany Township, Bradford County, Pa.; Consumptive Use of Up to 7.5000 mgd; Approval Date: September 4, 2019.

4. Chesapeake Appalachia, L.L.C.; Pad ID: Hunsinger; ABR-20090905.R2; Rush Township, Susquehanna County, Pa.; Consumptive Use of Up to 7.5000 mgd; Approval Date: September 4, 2019.

5. Chesapeake Appalachia, L.L.C.; Pad ID: Martin; ABR-20090906.R2; Granville Township, Bradford County, Pa.; Consumptive Use of Up to 7.5000 mgd; Approval Date: September 4, 2019.

6. Chesapeake Appalachia, L.L.C.; Pad ID: Farr; ABR-20090907.R2; Towanda Township, Bradford County, Pa.; Consumptive Use of Up to 7.5000 mgd; Approval Date: September 4, 2019.

7. Range Resources—Appalachia, LLC; Pad ID: Cornwall B Unit 1H—4H; ABR-201405003.R1; Lewis Township, Lycoming County, Pa.; Consumptive Use of Up to 2.0000 mgd; Approval Date: September 9, 2019.

8. Chesapeake Appalachia, L.L.C.; Pad ID: Sharer; ABR-20090913.R2; Stevens Township, Bradford County, Pa.; Consumptive Use of Up to 7.5000 mgd; Approval Date: September 9, 2019.

9. Range Resources—Appalachia, LLC; Pad ID: Ogontz 3H, 7H & 9H; ABR-20090606.R2; Cummings Township, Lycoming County, Pa.; Consumptive Use of Up to 2.0000 mgd; Approval Date: September 10, 2019.

10. Pennsylvania General Energy Company, L.L.C.; Pad ID: COP Tract 596 Pad A; ABR-201909004; Liberty Township, Tioga County, Pa.; Consumptive Use of Up to 4.9000 mgd; Approval Date: September 11, 2019.

11. Range Resources—Appalachia, LLC; Pad ID: McWilliams 1H-2H; ABR-20090607.R2; Cogan House Township, Lycoming County, Pa.; Consumptive Use of Up to 2.0000 mgd; Approval Date: September 12, 2019.

12. Range Resources—Appalachia, LLC; Pad ID: Gulf USA 67H-68H; ABR-20140606.R1; Snow Shoe Township, Centre County, Pa.; Consumptive Use of Up to 2.0000 mgd; Approval Date: September 13, 2019.

13. Repsol Oil & Gas USA, LLC.; Pad ID: OLD MINE ROAD (02 188); ABR-201909003; Hamilton Township, Tioga County, Pa.; Consumptive Use of Up to 6.0000 mgd; Approval Date: September 16, 2019.

14. ARD Operating, LLC; Pad ID: Bonnel Run H&F Pad D; ABR-201404003.R1; Pine Township, Lycoming County, Pa.; Consumptive Use of Up to 4.0000 mgd; Approval Date: September 20, 2019.

15. ARD Operating, LLC; Pad ID: COP Tr 027C Pad A; ABR-201407005.R1; McHenry Township, Lycoming County, Pa.; Consumptive Use of Up to 4.0000 mgd; Approval Date: September 20, 2019.

16. ARD Operating, LLC; Pad ID: COP Tr 027C Pad B; ABR-201407006.R1; McHenry Township, Lycoming County, Pa.; Consumptive Use of Up to 4.0000 mgd; Approval Date: September 20, 2019.

17. RD Operating, LLC; Pad ID: Marilyn Ely Pad A; ABR-201404009.R1; Gamble Township, Lycoming County, Pa.; Consumptive Use of Up to 4.0000 mgd; Approval Date: September 20, 2019.

18. ARD Operating, LLC; Pad ID: COP 259 Pad B; ABR-20090440.R2; Burnside Township, Centre County, Pa.; Consumptive Use of Up to 5.0000 mgd; Approval Date: September 20, 2019.

19. ARD Operating, LLC; Pad ID: COP 252 Pad B; ABR-20090445.R2; Grugan Township, Clinton County, Pa.; Consumptive Use of Up to 5.0000 mgd; Approval Date: September 20, 2019.

20. ARD Operating, LLC.; Pad ID: COP 259 Pad A; ABR-20090513.R2; Burnside Township, Centre County, Pa.; Consumptive Use of Up to 5.0000 mgd; Approval Date: September 20, 2019.

21. ARD Operating, LLC; Pad ID: COP Tr 551 A; ABR-201404008.R1; McIntyre Township, Lycoming County, Pa.; Consumptive Use of Up to 4.0000 mgd; Approval Date: September 25, 2019.

22. Chesapeake Appalachia, L.L.C.; Pad ID: Welles 2; ABR-20090940.R2; Terry Township, Bradford County, Pa.; Consumptive Use of Up to 7.5000 mgd; Approval Date: September 25, 2019.

23. SWN Production Company, LLC; Pad ID: NR-03-COLWELL WEST-PAD; ABR-201406002.R1; New Milford Township, Susquehanna County, Pa.; Consumptive Use of Up to 4.9999 mgd; Approval Date: September 27, 2019.

24. SWN Production Company, LLC; Pad ID: NR-17-COLEMAN-PAD; ABR-201406003.R1; Great Bend Township, Susquehanna County, Pa.; Consumptive Use of Up to 4.9999 mgd; Approval Date: September 27, 2019.

25. SWN Production Company, LLC; Pad ID: Ivey Pad Site; ABR-20090608.R2; Forest Lake Township, Susquehanna County, Pa.; Consumptive Use of Up to 3.0000 mgd; Approval Date: September 27, 2019.

Dated: October 9, 2019.
Jason E. Oyler,
General Counsel and Secretary to the Commission.

[FR Doc. 2019-22418 Filed 10-11-19; 8:45 am]

BILLING CODE 7040-01-P